POSTAL SERVICE

Sunshine Act Meeting

AGENCY: Board of Governors, Postal Service.

ACTION: Notification of items added to meeting agenda and change in dates and times of meeting.

DATE OF MEETING: November 5 and 6, 2001.

STATUS: Closed and Open.

PREVIOUS ANNOUNCEMENT: By paper vote on October 26 and 29, 2001, the Board of Governors of the United States Postal Service voted unanimously to add these items to the agenda of its closed and open meeting and to change the times and dates and that no earlier announcement was possible. The General Counsel of the closed session item may be properly closed to public observation under the Government in the Sunshine Act.

Status: November 5-11 a.m. (Closed); November 6-8:30 a.m. (Open)

Matters to be Considered:

Monday, November 5-11 a.m. (Closed)

1. Rate Case R2001-1 Update.

Tuesday, November 6-8:30 a.m. (Open).

1. Minutes of the Previous Meetings, October 22, and October 1-2, 2001.

2. Remarks of the Postmaster General and CEO.

3. Report from the Chief Postal Inspector.

4. Human Resources/Report from the Surgeon General.

5. Report on Operations and Service.

6. Report on Equipment for Handling Hazardous Materials.

7. Report on Finances.

8. Tentative Agenda for the December 3-4, 2001, meeting in Washington, DC.

CONTACT PERSON FOR MORE INFORMATION: David G. Hunter, Secretary of the Board, U.S. Postal Service, 475 L'Enfant Plaza, SW., Washington, DC. 20260-1000. Telephone (202) 268-4800.

David G. Hunter,
Secretary.

[FR Doc. 01-27724 Filed 10-31-01; 2:15 pm]

BILLING CODE 7710-12-M